DEPARTMENT OF THE INTERIOR

National Park Service

[NPS-WASO-NAGPRA-NPS0038346; PPWOCRADN0-PCU00RP14.R50000]

Notice of Intended Repatriation: Wesleyan University, Middletown, CT

AGENCY: National Park Service, Interior.

ACTION: Notice.

SUMMARY: In accordance with the Native American Graves Protection and Repatriation Act (NAGPRA), Wesleyan University intends to repatriate certain cultural items that meet the definition of unassociated funerary objects and that have a cultural affiliation with the Indian Tribes or Native Hawaiian organizations in this notice.

DATES: Repatriation of the cultural items in this notice may occur on or after August 29, 2024.

ADDRESSES: Wendi Field Murray, Wesleyan University (Archaeology & Anthropology Collections), 265 Church Street, Exley Science Building, Middletown, CT 06459, telephone (860)-685-2085, email wmurray01@wesleyan.edu.

SUPPLEMENTARY INFORMATION: This notice is published as part of the National Park Service's administrative responsibilities under NAGPRA. The determinations in this notice are the sole responsibility of Wesleyan University and additional information on the determinations in this notice, including the results of consultation, can be found in the summary or related records. The National Park Service is not responsible for the determinations in this notice.

Abstract of Information Available

A total of six cultural items have been requested for repatriation. The six unassociated funerary objects are one projectile point covered in red ochre and five ceramic sherds. The projectile point is a long-stemmed point of grey chert. Approximately six and one-half inches long, the point has a triangular blade, and the entire surface is covered in red ochre. According to available records, the object was donated to Wesleyan University by George M. Southmayd in 1890. Southmayd (1824-1908) was a Middletown businessman whose family operated a funeral home on Main Street for several decades. Collections records indicate that the collector of the object is unknown, but that it was found near the Air Line Depot in Middletown, CT the same year it was donated (1890). No other objects appear to have been donated with it.

The five ceramic sherds were all received in a transfer from the Smithsonian Institution to Wesleyan University in 1874. One is a grit-tempered sherd with a hole drilled through it and cross-hatched surface impressions (1971.411.1); two of the sherds are shell-tempered with cord-marked surface impressions (1971.411.2-.3); and two sherds are sand or grit-tempered with cord-marked surface impressions (1971.411.4-.5). According to Wesleyan's records, all five objects were collected by William Andros at an unknown date from “an Indian burying ground on the CT River in East Hartford, CT.”

No cultural affiliation information was included in the records of the taking or the transfer, though their geographical origin and the well-documented cultural and historical connections between the joint claimants, central Connecticut, and the Connecticut River indicates a cultural affiliation with the Mashantucket Pequot Indian Tribe and the Mohegan Tribe of Indians of Connecticut.

The presence of potentially hazardous substances (i.e., pesticide residues) on these particular objects is unknown. In 2021, Wesleyan University discovered the presence of pesticide residue (arsenic) on one organic object from Samoa that was transferred from the Smithsonian in the 19th century, as well as several taxidermy specimens. This suggests the possibility that other objects in the collection may be contaminated. While pesticides were not typically applied to stone or ceramic objects due to their inherent resilience to pest damage, the objects have potentially been intermingling with organic objects in a large ethnographic teaching collection since the late 19th century, so cross-contamination is a possibility.

There is one documented instance of pest fumigation relating to the collections that dates to 1972-1973. This was to treat a silverfish infestation in underground storage rooms that held the museum's objects after it closed. The proposal was for the application of dichlorodiphenyltrichloroethane (DDT) to the floors, the placement of open containers of paradichlorobenzene (PDB) around the room, and the placement of a mildew-retarding insecticide inside the wraps of specimens. The specific contents of the room in which the chemicals were applied, and to what extent they were shielded from them, is unknown.

Determinations

Wesleyan University has determined that:

• The six unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Mashantucket Pequot Indian Tribe and the Mohegan Tribe of Indians of Connecticut.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 29, 2024. If competing requests for repatriation are received, Wesleyan University must determine the most appropriate requestor prior to repatriation. Requests for joint repatriation of the cultural items are considered a single request and not competing requests. Wesleyan University is responsible for sending a copy of this notice to the Indian Tribes and Native Hawaiian organizations identified in this notice and to any other consulting parties.

Authority: Native American Graves Protection and Repatriation Act, 25 U.S.C. 3004 and the implementing regulations, 43 CFR 10.9.

Dated: July 17, 2024.
Melanie O'Brien,
Manager, National NAGPRA Program.

[FR Doc. 2024-16702 Filed 7-29-24; 8:45 am]

BILLING CODE 4312-52-P